DEPARTMENT OF HOMELAND SECURITY

Coast Guard

33 CFR Part 117

[CGD08-05-006]

RIN 1625-AA09

Drawbridge Operation Regulations; Upper Mississippi River, Fort Madison, IA and Burlington, IA

AGENCY: Coast Guard, DHS.

ACTION: Notice of temporary deviation from regulations.

SUMMARY: The Commander, Eighth Coast Guard District has issued a temporary deviation from the regulation governing the operation of the Fort Madison Drawbridge, mile 383.9, Fort Madison, Iowa and the Burlington Railroad Drawbridge, mile 403.1, Burlington, Iowa, across the Upper Mississippi River. This deviation allows the drawbridges to remain closed to navigation unless at least 4 hours advance notice is given for an opening from 8 a.m., January 24, 2005, until 8 a.m., March 1, 2005, Central Standard Time. The deviation is necessary to allow time for making repairs of critical mechanical components essential to the continued safe operation of the drawbridges.

DATES: This temporary deviation is effective from 8 a.m., January 24, 2005 through 8 a.m., March 1, 2005.

ADDRESSES: Materials referred to in this document are available for inspection or copying at Room 2.107F in the Robert A. Young Federal Building, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, (314) 539-3900, extension 2378.

SUPPLEMENTARY INFORMATION: The Burlington Northern and Santa Fe Railway Company requested a temporary deviation to allow time to conduct repairs to the Fort Madison Drawbridge, mile 383.9 at Fort Madison, Iowa and Burlington Railroad Drawbridge, mile 403.1 at Burlington, Iowa, across the Upper Mississippi River. The Fort Madison Drawbridge and Burlington Railroad Drawbridge currently operates in accordance with 33 CFR 117.5 which requires the drawbridges to open promptly and fully for passage of vessels when a request to open is given in accordance with 33 CFR 117, subpart A. In order to facilitate required bridge maintenance during the winter months, when the number of vessels likely to be impacted is minimal, the bridges must be kept in the closed to navigation position. This deviation allows the bridges to remain closed to navigation for 37 days from 8 a.m., January 24, 2005 until 8 a.m., March 1, 2005. The drawbridges will open during this time period upon 4 hours advance notice. There are no alternate routes for vessels transiting through mile 383.9 and 403.1 on the Upper Mississippi River.

The Fort Madison Drawbridge provides a vertical clearance of 13.1 feet above normal pool and the Burlington Railroad Drawbridge provides a vertical clearance of 21.5 feet above normal pool. Navigation on the waterway consists primarily of commercial tows and recreational watercraft. This deviation has been coordinated with waterway users. No objections were received.

In accordance with 33 CFR 117.35(c), this work will be performed with all due speed in order to return the bridges to normal operation as soon as possible. This deviation from the operating regulations is authorized under 33 CFR 117.35.

Dated: January 7, 2005.
Roger K. Wiebusch,
Bridge Administrator.

[FR Doc. 05-792 Filed 1-13-05; 8:45 am]

BILLING CODE 4910-15-P